GENERAL SERVICES ADMINISTRATION

[Notice-P-2024-02; Docket No. 2024-0002; Sequence No. 52]

Notice of Availability for a Final Environmental Impact Statement (EIS) and Floodplain Assessment and Statement of Findings for the Kenneth G. Ward (Lynden) and Sumas Land Ports of Entry (LPOE) Modernization and Expansion Projects in Lynden and Sumas, Washington

AGENCY: Public Buildings Service (PBS), General Services Administration (GSA).

ACTION: Notice of availability (NOA).

SUMMARY: This notice announces the availability of the Final Environmental Impact Statement (EIS), which examines potential environmental impacts from the modernization and expansion of the Lynden and Sumas LPOEs in Lynden and Sumas, Washington. The existing Lynden and Sumas LPOEs are owned and managed by GSA and operated by the U.S. Department of Homeland Security's Customs and Border Protection (CBP). The Final EIS describes the purpose and need for the project; alternatives considered; the existing environment that could be affected; the potential impacts resulting from each of the alternatives; and proposed best management practices and mitigation measures. The Final EIS also includes a Floodplain Assessment and Statement of Findings due to the construction in a floodplain at the Sumas LPOE. The Final EIS identifies the preferred alternatives, including the environmentally preferable alternatives, as summarized below (see the SUPPLEMENTARY INFORMATION section of this NOA).

DATES: The Final EIS Wait Period begins with publication of this NOA in the Federal Register and will last until December 16, 2024. Any comments regarding the Final EIS must be received or postmarked by the last day of the 30-day Final EIS Wait Period (see the ADDRESSES section of this NOA on how to submit comments). After the Final EIS Wait Period, GSA will issue the Record of Decision (ROD).

ADDRESSES: Comments concerning the Final EIS should be directed to:

• Email: lyndenlpoe@gsa.gov or sumaslpoe@gsa.gov. Please include “Lynden and Sumas LPOEs Final EIS” in the subject line of the message.

• Mail: ATTN: Patrick Manning, Capital Project Manager, Lynden and Sumas LPOEs EIS, U.S. General Services Administration, Northwest/Arctic Region 10, 1301 A Street, Suite 610, Tacoma, WA 98402.

FOR FURTHER INFORMATION CONTACT: Patrick Manning, Capital Project Manager, GSA at lyndenlpoe@gsa.gov or sumaslpoe@gsa.gov, or at 202-501-4755.

SUPPLEMENTARY INFORMATION: Digital copies of the Final EIS are available at the following GSA project websites: www.gsa.gov/lynden and www.gsa.gov/sumas. GSA has considered stakeholder input and public comments provided during the scoping and Draft EIS comment periods and tenant needs at the LPOEs to develop the Final EIS and determine the preferred alternatives.

GSA's preferred alternative for the Lynden LPOE is to implement Lynden LPOE Alternative 3 (North-South Oriented LPOE Expansion) as described in the Final EIS. This alternative was selected because it would match the orientation of the existing LPOE and facilitate more efficient traffic flow. GSA has identified Lynden LPOE Alternative 3 as the environmentally preferable alternative because the maximum proposed limits of disturbance would be smaller compared to Lynden LPOE Alternative 2 (10.3 acres verses 14.5 acres) and Lynden LPOE Alternative 3 would require lower quantities of fill because of the smaller project footprint and differences in elevation change across the project site.

GSA's preferred alternative for the Sumas LPOE is to implement Sumas LPOE Alternative 4 (Multi-Story Construction LPOE Expansion) as described in the Final EIS. This alternative was selected because the operational space within the Main Building would be consolidated, and the building would use a smaller footprint within the LPOE allowing more space for other LPOE functions and increasing LPOE operational efficiency. This alternative would also add a pedestrian bridge, further increasing employee safety. Sumas LPOE Alternative 2 (Feasibility Study Preferred Alternative), Sumas LPOE Alternative 3 (Commercial Inspection West), and Sumas LPOE Alternative 4 (Multi-Story Construction LPOE Expansion) would be constructed within the same limits of disturbance (12.6 acres), with the only noted differences being the LPOE's potential alignment, layout, and operating efficiency. Therefore, potential environmental impacts resulting from each of these alternatives are similar and each alternative, including GSA's preferred Sumas LPOE Alternative 4, could be identified as the environmentally preferable alternative.

Background

The existing 4.8-acre Lynden LPOE serves as the port of entry for people and vehicles connecting Lynden, Washington to Aldergrove, British Columbia, Canada. The Lynden LPOE currently operates 16 hours per day, 7 days per week and processes privately owned vehicles (POVs), buses, pedestrians, and permitted commercial traffic. The existing 4.0-acre Sumas LPOE serves as the port of entry for people and vehicles connecting Sumas, Washington to Abbotsford, British Columbia, Canada. The Sumas LPOE operates 24 hours per day, 7 days per week and processes POVs, buses, pedestrians, and commercial traffic.

The purpose of these expansion and modernization projects is for GSA to support the CBP mission through modernizing and expanding the Lynden and Sumas LPOEs.

Accomplishing this purpose would increase the functionality, capacity, operational efficiency, effectiveness, security, sustainability, and safety of the Lynden and Sumas LPOEs. The projects are generally needed to update the current facilities at the Lynden and Sumas LPOEs, which no longer function adequately and cannot meet CBP current operational needs or Program of Requirements.

The existing Lynden and Sumas LPOEs have not undergone major improvements since their initial construction in the late 1980s and do not have sufficient space for modernization and expansion. Both facilities also have configuration and space issues that cause traffic, delays in processing times, and safety and security issues for inspection personnel. Additionally, these facilities do not have the ability to incorporate new technologies as they become available. The projects at the Lynden and Sumas LPOEs are analyzed jointly in this Final EIS due to their proximity (approximately 10 miles) to one another.

Operational changes at the Lynden and Sumas LPOEs could impact each other, especially during construction.

GSA has prepared a Final EIS to assess the potential impacts of these expansion and modernization projects.

Alternatives Considered

The EIS considered two action alternatives for the Lynden LPOE and three action alternatives for the Sumas LPOE, along with two construction sequencing options. GSA also considered the No Action Alternatives for each project location.

Lynden Alternative 2 (East-West Oriented LPOE Expansion) would involve potential acquisition of primarily agricultural land to the west of the LPOE, site preparation, and construction to modernize and expand the LPOE. The maximum proposed limits of disturbance for Lynden Alternative 2 would be approximately 14.5 acres.

Lynden Alternative 3 (North-South Oriented LPOE Expansion) would include the same action as Lynden Alternative 2, with a difference of alignment. The maximum proposed limits of disturbance for Alternative 3 would be approximately 10.3 acres.

Sumas Alternative 2 (Feasibility Study Preferred Alternative) would involve potential acquisition of land south and east of the LPOE, site preparation, and construction to modernize and expand the LPOE. The maximum proposed limits of disturbance for Sumas Alternative 2 would be approximately 12.9 acres.

Sumas Alternative 3 (Commercial Inspection West) would include the same action and maximum proposed limits of disturbance as Alternative 2, with a difference of a “flipped” alignment of the commercial inspection facility.

Sumas Alternative 4 (Multi-Story Construction LPOE Expansion) would include the same action and maximum proposed limits of disturbance as Sumas Alternative 2, with a difference of multi-story Main Building being constructed.

The EIS also evaluated two construction sequencing options, which could be implemented under any of the action alternatives considered.

Under the Concurrent Construction option, both ports would remain open during construction. Pedestrian access would be maintained through the ports by utilizing and resetting, as necessary, various access and safety controls. POV access would also be maintained through both ports using various controls, which may require limits on the number of open processing lanes and shifting of POVs to commercial owned vehicle (COV) lanes for limited times. COVs may need to be detoured at times to other ports to permit adequate space for continued POV processing.

Under the Sequential Construction Option, GSA and CBP considered the potential for closure of the Lynden LPOE. All traffic, pedestrians, POVs, and COVs would be detoured from the Lynden LPOE during the majority of its construction. Once the modernized and expanded Lynden LPOE is reopened, construction that impacts traffic would begin on the Sumas LPOE. The Sumas LPOE would remain open to pedestrians and POVs during construction to the greatest extent possible. COVs would be detoured from the Sumas LPOE to other LPOEs during portions of the construction period.

The Final EIS addresses the potential environmental impacts of the proposed alternatives on environmental resources including land use; water resources; biological resources; geology, topography, and soils; air quality, climate change, and greenhouse gases; human health and safety; infrastructure and utilities; traffic and transportation; noise and vibration; socioeconomics; and environmental justice and protection of children's health and safety. Based on the analysis presented in the Final EIS, impacts to all resource areas would be less-than-significant (i.e., negligible, minor, or moderate) adverse or beneficial. Impact reduction measures are presented in the Final EIS to reduce potential adverse effects.

GSA conducted formal consultation with the Washington State Department of Archaeology and Historic Preservation (referred to as the State Historic Preservation Office [SHPO]) as required under Section 106 of the National Historic Preservation Act to determine impacts to historic properties. GSA determined that no historic properties would be affected by the proposed projects. SHPO concurred with GSA's determination.

GSA determined that implementation of any combination of Lynden and Sumas action alternatives may affect but would not likely adversely affect the yellow-billed cuckoo and monarch butterfly. Therefore, GSA sent an informal consultation letter in accordance with Section 7 of the ESA regarding the potential impacts to protected species from the Proposed Action to the U.S. Fish and Wildlife Service (USFWS) on July 31, 2024; and a follow-up email on September 18, 2024. The USFWS did not reply or provide written concurrence with GSA's determination within the 60-day required timeframe for a response.

GSA sent Farmland Conversion Impact Rating Forms to the Natural Resources Conservation Service (NRCS) on July 31, 2024; and a follow-up email on September 18, 2024 to determine if mitigation to reduce potential impacts to farmland or farmland soils from the proposed modernization and expansion of the Lynden and Sumas LPOEs is required. The NRCS has not responded to date; however, GSA will continue to coordinate with NRCS to determine if mitigation for potential impacts to Farmland Protection Policy Act protected soils is required.

The Sumas LPOE project area is located within the 1-percent-annual-chance floodplain (also referred to as the base flood or 100-year flood) and 0.2-percent-annual-chance floodplain (also referred to as the 500-year flood). In compliance with Executive Order 11988 (Floodplain Management), GSA prepared a Floodplain Assessment and Statement of Findings addressing potential impacts on floodplains, which is included in the Final EIS for public review and comment. As described in the Final EIS, GSA would follow Federal, State, and local regulatory compliance requirements and incorporate design standards at the Sumas LPOE to minimize impacts to floodplains.

Anamarie Crawley,
Director, Facilities Management Division, Northwest/Arctic Region 10, U.S. General Services Administration.

[FR Doc. 2024-26296 Filed 11-14-24; 8:45 am]

BILLING CODE 6820-DL-P